DEPARTMENT OF TRANSPORTATION

Federal Aviation Administration

Advisory Circular 33-10, Considerations for Comparative Test and Analysis Based Compliance Findings for Turbine Engine and Auxiliary Power Unit Replacement, Redesign and Repaired Parts

AGENCY: Federal Aviation Administration (FAA), DOT.

ACTION: Notice of withdrawal of AC 33-10, Considerations for Comparative Test and Analysis Based Compliance Findings for Turbine Engine and Auxiliary Power Unit Replacement, Redesign and Replacement Parts.

SUMMARY: This notice announces the withdrawal of the guidance offered in AC 33-10 so it can be revised.

FOR FURTHER INFORMATION CONTACT: Mark Bouyer, FAA, Rulemaking and Policy Branch, ANE-111, Engine and Propeller Directorate Standards Staff, Aircraft Certification Service, 12 New England Executive Park, Burlington, MA 01803; phone: 781-238-7755; fax: 781-238-7199; email: mark.bouyer@faa.gov.

SUPPLEMENTARY INFORMATION:

Background

We are withdrawing Advisory Circular 33-10 to restructure the content and to clarify its intended purpose.

Authority: 49 U.S.C. 106(g), 40113, 44701-44702, 44704.

Issued in Burlington, Massachusetts, on January 23, 2015.
Colleen D'Alessandro,
Assistant Manager, Engine and Propeller Directorate, Aircraft Certification Service.

[FR Doc. 2015-01799 Filed 1-29-15; 8:45 am]

BILLING CODE 4910-13-P